DEPARTMENT OF LABOR

Occupational Safety and Health Administration

29 CFR Part 1926

[Docket No. H011G]

RIN No. 1218-AB89

Announcement of Stakeholders Meetings for Hearing Conservation Program for Construction Workers

AGENCY: Occupational Safety and Health Administration (OSHA); Department of Labor.

ACTION: Scheduling of stakeholder meetings.

SUMMARY: The Occupational Safety and Health Administration (OSHA) is inviting the public to participate in informal stakeholder meetings on a Hearing Conservation Program for Construction Workers. These planned meetings will continue OSHA's information collection efforts and will add to the information obtained in the stakeholder meetings conducted in Chicago, Illinois on March 24 and 25, 2004. In this meeting, stakeholders suggested that OSHA consider the advantages of addressing high noise exposure on a task by task basis. The Agency invites the public to address issues regarding a task-based approach to implementing hearing conservation programs, including exposure assessment and the use of hearing protection devices, to reduce worker exposures to noise in the construction industry.

DATES: Stakeholder meetings. Stakeholder meetings will be held on July 21st and 22nd, 2004 at the Hyatt Dulles Hotel, 2300 Dulles Corner Boulevard, Herndon, Virginia (telephone 703-713-1234, fax 703-713-3410). Both meetings will begin at 8:30 a.m. and end at 12:30 p.m. Interested parties are requested to notify OSHA of their intent to participate in one of the stakeholder meetings by July 6, 2004. Also, stakeholders who wish to make a presentation of task-specific exposure data, of no longer than 10-minutes, must notify OSHA by July 6th. Each half day session will have the same agenda and format. Stakeholders are encouraged to attend only one half-day meeting.

ADDRESSES: If you wish to participate in a stakeholder meeting you must notify OSHA by e-mail, facsimile, or mail, as set forth below, giving your name, affiliation, contact information, the stakeholder session you plan to attend, and whether you wish to be an active participant, presenter, or an observer.

Electronic: OSHA encourages you to submit your notice of intent to attend a stakeholder meeting via e-mail to garner.christie@dol.gov.

Facsimile: You may fax your notice of intent to attend a stakeholder meeting to Christie Garner at (202) 693-1678.

Mail: You may also notify OSHA of your intent to attend a stakeholder meeting, by mail, to Christie Garner, Directorate of Standards and Guidance, Occupational Safety and Health Administration, U.S. Department of Labor, Room N-3718, 200 Constitution Ave., NW., Washington, DC 20210.

FOR FURTHER INFORMATION CONTACT: Michael Seymour, Office of Physical Hazards, Directorate of Standards and Guidance, Occupational Safety and Health Administration, U.S. Department of Labor, Room N-3718, 200 Constitution Avenue, NW., Washington, DC 20210, telephone (202) 693-1950.

SUPPLEMENTARY INFORMATION: OSHA issued a section 6(b)(5) health standard mandating a comprehensive hearing conservation program for noise-exposed workers in general industry in 1983. However, no rule was promulgated to cover workers in the construction industry. Studies show that as many as 750,000 construction workers are currently exposed to noise levels of 85 dBA or greater at work. The largest number of worker exposures to excessive noise occurs during road construction, carpentry, and concrete work. International experience and data show that hearing conservation programs in the construction industry can be effective in reducing occupational hearing loss.

On August 5, 2002, OSHA published an Advance Notice of Proposed Rulemaking (ANPR) addressing noise-induced hearing loss among workers in the construction industry, current practices to reduce this loss, and additional approaches and protection that could be used to prevent such loss in the future (67 FR 50610). The Agency has reviewed the forty-seven comments received in response to the ANPR and other available information.

OSHA held stakeholder meetings in Chicago, Illinois on March 24 and 25, 2004. In that meeting stakeholders discussed an approach to implementing hearing conservation programs based on the knowledge of exposure levels in common construction tasks. They noted that such an approach would simplify putting hearing conservation programs into practice. The stakeholders sought a simple and flexible system that would require minimal exposure monitoring and expertise by construction employers.

Stakeholder Meetings

OSHA requests the public to address the following issues regarding task-based approaches to hearing conservation programs:

• What are the common tasks in construction where significant noise exposures occur? Can such tasks be characterized by job title, type of construction, activity, type of equipment used, or other characteristics?

• Are data available for most tasks sufficient to characterize:

◦ Anticipated exposures,

◦ Duration,

◦ Noise perimeter zones,

◦ Current use of hearing protection?

• What are the critical data elements needed to sufficiently characterize typical tasks in construction?

The stakeholder meetings will be an opportunity for informal discussion and will allow for the exchange of data, ideas, and points of view. The first two hours of each meeting will be an informal discussion of the above issues. The remainder of the meeting will be devoted to 10-minute presentations by stakeholders who wish to present exposure data related to specific construction tasks. Participants are not expected to prepare and present formal testimony. The Agency is interested in reviewing exposure data and hearing first hand from employers and employees in the construction industry their ideas of what can be done to reduce the noise exposures and hearing loss of workers within this industry.

Authority: This notice was prepared under the direction of John L. Henshaw, Assistant Secretary for Occupational Safety and Health. It is issued under sections 4 and 8 of the Occupational Safety and Health Act of 1970 (29 U.S.C. 653, 655, 657).

Issued at Washington, DC, this 28th day of May, 2004.
John L. Henshaw,
Assistant Secretary of Labor.

[FR Doc. 04-12759 Filed 6-4-04; 8:45 am]

BILLING CODE 4510-26-M